DEPARTMENT OF THE INTERIOR

Minerals Management Service

30 CFR Part 203

RIN 1010-AD01

Oil and Gas and Sulphur Operations in the Outer Continental Shelf—Relief or Reduction in Royalty Rates—Deep Gas Provisions; Correction

AGENCY: Minerals Management Service (MMS), Interior.

ACTION: Correction.

SUMMARY: The technical amendments to the document titled “Oil and Gas and Sulphur Operations in the Outer Continental Shelf—Relief or Reduction in Royalty Rates—Deep Gas Provisions” published at 69 FR 24052 (April 30, 2004) contained an incorrect effective date for the changes included in the document. This document corrects the effective date for all changes and amendments to May 3, 2004.

DATES: Effective Date: The effective date for all changes and amendments to 30 CFR Part 203 that were published at 69 FR 24052 (April 30, 2004) is May 3, 2004.

FOR FURTHER INFORMATION CONTACT: Marshall Rose, Chief, Economics Division, Minerals Management Service, at 703-787-1536. E-mail: Marshall.Rose@mms.gov. Address: Minerals Management Service, MS 4050, 381 Elden Street, Herndon, Virginia 20170.

Dated: May 4, 2004.
Patricia E. Morrison,
Assistant Secretary—Land and Minerals Management.

[FR Doc. 04-10469 Filed 5-6-04; 8:45 am]

BILLING CODE 4310-MR-P